DEPARTMENT OF TRANSPORTATION

Federal Aviation Administration

[Docket No: FAA-2025-5379]

Deadline for Submitting Intent To Use Airport Improvement Program (AIP) Apportioned Funds for Fiscal Year (FY) 2026

AGENCY: Federal Aviation Administration (FAA), U.S. Department of Transportation.

ACTION: Federal Register notice.

SUMMARY: Title 49 U.S.C. 47105(f) provides that every sponsor of an airport for which AIP funds are apportioned shall notify the Secretary, by such time and in a form prescribed by the Secretary, of its intent to submit a grant application for its available entitlement funds. This notice establishes the annual national deadline and requirements for every airport sponsor to signal their intent to submit applications for FY 2026 AIP entitlement funds. This is necessary to ensure the FAA has sufficient time to convert and carry over (protect) undeclared apportionment funds.

FOR FURTHER INFORMATION CONTACT: Jesse Carriger, Director (Acting), Office of Airport Planning and Programming, at (202) 267-9194.

SUPPLEMENTARY INFORMATION: Pursuant to 49 U.S.C. 47105(f), each airport sponsor receiving apportioned funds must inform the Secretary of its intention to apply for these funds, including any unused funds from previous years (protected carryover). Each airport sponsor must submit notifications for each airport receiving an entitlement amount to their FAA Regional Airports Division/Airports District Office by the national deadline of February 27, 2026. This notification is essential for the efficient planning and management of the AIP. The FAA will carry over and protect any undeclared apportioned funds after this date. Undeclared apportioned funds will be unavailable to the sponsor until the next fiscal year.

The notification must be in writing and include the total amount planned for eligible projects during the FY and confirmation of which projects listed in their Capital Improvement Plans for the current FY will proceed.

State aviation agencies in the FAA's State Block Grant Program must also notify the FAA by this date, with information consistent with the latest Memorandum of Agreement. This should include a plan for both entitlement and state apportionment funds.

Funds from previous FYs that are still available may not be immediately accessible to sponsors when the FAA initiates the AIP for a new fiscal year. The FAA can only issue grants when sufficient funds are appropriated.

Airport sponsors must submit applications for entitlement-only grants on or before May 1, 2026. These applications should be based on construction bids (or negotiated agreements) but may be based on estimates. Final bid dates should be coordinated with your local Region or Airport District Office (ADO), as appropriate, to ensure all grants can be issued based on bids. The submitted applications must comply with statutory pre-grant requirements, including the National Environmental Policy Act and Buy American requirements. If you are unable to meet the required dates, please contact your ADO.

Issued in Washington, DC, on December 3, 2025.
Jesse Carriger,
Director (Acting), Office of Airport Planning and Programming.

[FR Doc. 2025-22139 Filed 12-5-25; 8:45 am]

BILLING CODE 4910-13-P